Title 3—

The President

Proclamation 10558 of April 27, 2023

Workers Memorial Day, 2023

By the President of the United States of America

A Proclamation

A record 160 million Americans get up and go to work every day to provide for their families, build their communities, and earn a piece of the American Dream. But too many are exposed to unsafe working conditions, injured, or even killed in preventable accidents on the job. And millions of firefighters, police officers, and other first responders put their lives on the line as a matter of course to keep the rest of us safe. We need to have their backs. On Workers Memorial Day, we honor every American worker who has sacrificed their own life or well-being; we stand with the unions that fight for them every day; and we recommit to protecting the fundamental right to a safe and healthy workplace.

I ran for office to restore the backbone of America—the middle class—and I am proud to be the most pro-labor President in history. The middle class built this country, and union workers built the middle class. Nearly every law protecting workers' rights passed because unions fought for it. That includes the Occupational Safety and Health Act, which took effect 51 years ago today, laying the groundwork for foundational health, safety, and whistleblower protections that continue to protect workers nationwide.

My Administration has built on that legacy from the start, securing $200 million in American Rescue Plan funding to help keep workers safe and guarantee paid sick leave during the COVID-19 pandemic. We protected pensions for millions of workers and retirees so that hardworking Americans can enjoy the healthy and stable retirement they worked their whole lives to secure. The historic infrastructure, manufacturing, and clean energy laws that I signed as part of our Investing in America agenda are spurring billions of dollars in private investments and helping to create millions of good-paying jobs while requiring strong labor practices like prevailing wages, expanding Registered Apprenticeships, and protecting benefits for coal miners with black lung disease. Throughout, we have stood against union busting and supported striking workers, who fight for better pay and safer conditions. We have cracked down on wage theft and worker misclassification so employers cannot avoid paying fair wages or full benefits. We are making it easier for workers to report abuses and unsafe working conditions, even if they are undocumented—improving safety, boosting pay, and raising standards for everyone.

At the same time, my Administration has strengthened workplace safety enforcement and training, hiring hundreds of new workplace inspectors and increasing site visits by 30 percent. We launched a program to inspect workplaces for extreme heat, which can harm construction, farm, factory, warehouse, delivery, and other workers. We have invested more than $100 million in training farm workers to avoid injuries. And we have fought for first responders by cracking down on toxic PFAS—the so-called “forever chemicals” that have been used for years to produce firefighting equipment and fire suppression agents, making firefighters sick—and funding research into PFAS alternatives. I also signed bills qualifying more than 10,000 Federal firefighters for critical workers' compensation and extending tax-free retirement benefits to firefighters permanently disabled on the job and to families of late firefighters who faced trauma. My latest Budget would invest $430 million more to help Federal agencies promote safe worksites, protect benefits, increase penalties for labor violations, and end child labor for good. Our Administration has worked across the board to expand access to health care through the Affordable Care Act and Medicaid, saving millions of families $800 a year each on premiums. Today, more Americans have health insurance than ever before in our history.

We have more to do. For starters, the United States is still one of the only countries in the world that does not guarantee paid sick leave, forcing too many workers to have to choose between a paycheck and caring for a sick or injured loved one or for themselves. The Congress needs to pass sick days for all and a national paid leave program right away to change that.

A safe and healthy workplace is fundamental. In the United States of America, no one should have to risk their lives just to make a living. Today, we honor those workers who put it all on the line, and we keep their families in our hearts. We celebrate the whistleblowers and union organizers whose courage and persistence has saved countless lives, and we join them in standing up for all American workers, who are the best in the world.

NOW, THEREFORE, I, JOSEPH R. BIDEN JR., President of the United States of America, by virtue of the authority vested in me by the Constitution and the laws of the United States, do hereby proclaim April 28, 2023, as Workers Memorial Day. I call upon all Americans to observe this day with appropriate service, community, and education programs and ceremonies in memory of those killed or injured due to unsafe working conditions.

IN WITNESS WHEREOF, I have hereunto set my hand this twenty-seventh day of April, in the year of our Lord two thousand twenty-three, and of the Independence of the United States of America the two hundred and forty-seventh.

[FR Doc. 2023-09414

Filed 5-1-23; 8:45 am]

Billing code 3395-F3-P